FEDERAL FINANCIAL INSTITUTIONS EXAMINATION COUNCIL

[Docket No. AS17-03]

Appraisal Subcommittee; Proposed Revised Policy Statements

AGENCY: Appraisal Subcommittee of the Federal Financial Institutions Examination Council.

ACTION: Suspension of comment period.

SUMMARY: The Appraisal Subcommittee of the Federal Financial Institutions Examination Council (ASC) is suspending the public comment period for the Proposed Revised Policy Statements effective April 4, 2017. The ASC published the Proposed Revised Policy Statements on January 10, 2017, under Docket Number AS17-01. The comment period was scheduled to close on April 10, 2017. The suspension of the comment period will allow the President's appointees the opportunity to review and consider this action.

DATES: The comment period is indefinitely suspended effective April 4, 2017.

ADDRESSES: For access to the docket to read background documents and comments received, go to https://www.regulations.gov and follow the online instructions for accessing the docket.

FOR FURTHER INFORMATION CONTACT: James R. Park, Executive Director, at (202) 595-7575, or Alice M. Ritter, General Counsel, at (202) 595-7577, Appraisal Subcommittee, 1401 H Street NW., Suite 760, Washington, DC 20005.

Dated: March 29, 2017.
Arthur Lindo,
Chairman.

[FR Doc. 2017-06596 Filed 4-3-17; 8:45 am]

BILLING CODE P